SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before December 19, 2022.

ADDRESSES: Written comments and recommendations for this information collection request should be sent within 30 days of publication of this notice to www.reginfo.gov/public/do/PRAMain. Find this particular information collection request by selecting “Small Business Administration;” “Currently Under Review,” then select the “Only Show ICR for Public Comment” checkbox. This information collection can be identified by title and/or OMB Control Number.

FOR FURTHER INFORMATION CONTACT: You may obtain a copy of the information collection and supporting documents from the Agency Clearance Office at Curtis.Rich@sba.gov; (202) 205-7030, or from www.reginfo.gov/public/do/PRAMain

SUPPLEMENTARY INFORMATION: The SBA Emerging Leaders (EL) initiative was designed to strengthen and grow existing local entrepreneur communities in historically distressed cities. The key goals of the program are to (1) increase small business growth and survival, and (2) promote economic growth in distressed communities by providing employment opportunities as well as necessary goods and services. To achieve these goals, the program offers executives of high-growth small businesses a five-month executive leader education series, free of charge, that provide the networks, resources, and knowledge required to promote a sustainable business growth, create jobs, and contribute to the economic well-being of local communities. In 2022, the program was revamped under the new name, T.H.R.I.V.E. Emerging Leaders Reimagined. The revised program provides training that customizes content for small businesses' unique needs, increases accessibility through a virtual component, and specifically promotes business ecosystem connections among business owners, government agencies, and the financial community. This information collection is necessary for SBA to understand the progress made by the T.H.R.I.V.E. program toward achieving its goals.

The evaluation will be used to track participants' business growth, to provide guidance to the program training contractor on areas for additional assistance, and to increase SBA's understanding of the program outcome trends. This evaluation aims to examine the program participants' business growth outcomes including revenue, profits, job creation, and business survival. The evaluation also describes the population of program participants—their businesses, business management practices, experiences with the program, and satisfaction with and perceived effectiveness of the program. Over the previous years, the evaluation results have helped to track the program performance outcomes and provide suggestions for program improvements to better facilitate small business growth. The results are also expected to provide suggestions for improving future evaluations.

The following surveys are conducted with the program participants: (1) the application form before the program enrollment, (2) the intake survey before the training, (3) the module feedback form during the training, (4) the feedback survey right after the graduation, and (5) the follow-up survey annually up to three years after graduation. The application form examines the eligibility status of the enrollees, obtains their contact information, and asks for their business goals. The data from the Intake survey is used to determine baseline levels of business outcomes, the use of management practices, and the extent to which the target population for the program is reached. The module feedback form assesses the participants' experience with each of the eight modules of the training program. The feedback survey is used to measure participant satisfaction with the training activities and to suggest training adjustments, if necessary. The annual follow-up survey tracks changes in the small business owner's management practices and business outcomes for three years after graduation from the program. The data collection covers four cohorts of program participants. The given year participants complete the application form, intake survey, module feedback, and feedback survey. The three cohorts of participants who graduated from the program one, two, and three years prior complete the follow-up survey.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

Title: The SBA Emerging Leaders (EL) initiative was designed to strengthen and grow existing local entrepreneur communities in historically distressed cities. The key goals of the program are to (1) increase small business growth and survival, and (2) promote economic growth in distressed communities by providing employment opportunities as well as necessary goods and services. To achieve these goals, the program offers executives of high-growth small businesses a five-month executive leader education series, free of charge, that provide the networks, resources, and knowledge required to promote a sustainable business growth, create jobs, and contribute to the economic well-being of local communities. In 2022, the program was revamped under the new name, T.H.R.I.V.E. Emerging Leaders Reimagined. The revised program provides training that customizes content for small businesses' unique needs, increases accessibility through a virtual component, and specifically promotes business ecosystem connections among business owners, government agencies, and the financial community. This information collection is necessary for SBA to understand the progress made by the T.H.R.I.V.E. program toward achieving its goals.

The evaluation will be used to track participants' business growth, to provide guidance to the program training contractor on areas for additional assistance, and to increase SBA's understanding of the program outcome trends. This evaluation aims to examine the program participants' business growth outcomes including revenue, profits, job creation, and business survival. The evaluation also describes the population of program participants—their businesses, business management practices, experiences with the program, and satisfaction with and perceived effectiveness of the program. Over the previous years, the evaluation results have helped to track the program performance outcomes and provide suggestions for program improvements to better facilitate small business growth. The results are also expected to provide suggestions for improving future evaluations.

The following surveys are conducted with the program participants: (1) the application form before the program enrollment, (2) the intake survey before the training, (3) the module feedback form during the training, (4) the feedback survey right after the graduation, and (5) the follow-up survey annually up to three years after graduation. The application form examines the eligibility status of the enrollees, obtains their contact information, and asks for their business goals. The data from the Intake survey is used to determine baseline levels of business outcomes, the use of management practices, and the extent to which the target population for the program is reached. The module feedback form assesses the participants' experience with each of the eight modules of the training program. The feedback survey is used to measure participant satisfaction with the training activities and to suggest training adjustments, if necessary. The annual follow-up survey tracks changes in the small business owner's management practices and business outcomes for three years after graduation from the program. The data collection covers four cohorts of program participants. The given year participants complete the application form, intake survey, module feedback, and feedback survey. The three cohorts of participants who graduated from the program one, two, and three years prior complete the follow-up survey.

OMB Control Number: 3245-0394.

Title: T.H.R.I.V.E. Emerging Leaders Reimagined.

Description of Respondents: Existing local entrepreneur communities in historically distressed cities.

Estimated Number of Respondents: 5,644.

Estimated Annual Responses: 5,644.

Estimated Annual Hour Burden: 4,851.

Curtis Rich,
Agency Clearance Officer.

[FR Doc. 2022-25193 Filed 11-17-22; 8:45 am]

BILLING CODE 8026-09-P